DEPARTMENT OF AGRICULTURE

Forest Service

Plumas National Forest; California; Diamond Vegetation Management Project

AGENCY: Forest Service, USDA.

ACTION: Notice of intent to prepare an Environmental Impact Statement.

SUMMARY: The USDA Forest Service Plumas National Forest will prepare an Environmental Impact Statement (EIS) on a proposal implement hazardous fuel reduction and construction of Defensible Fuel Profile Zones, implement thinning, group selection harvest, road system improvements, and stream channel restoration. Also, treatments of noxious weeds are proposed using mechanical, fire, and chemical methods. These actions are proposed to occur in forested areas of public land northeast of Quincy, California.

DATES: Comments concerning the scope of the analysis must be received within 30 days of the date of publication of this Notice of Intent in the Federal Register. The draft EIS is expected in April 2006 and the final EIS is expected in August 2006.

ADDRESSES: Send written comments to James M. Peña, Plumas National Forest, P.O. Box 11500, Quincy, CA 95971. Fax: (530) 283-7746. Electronic comments should be sent to: comments-pacificsouthwest-plumas@fs.fed.us.

FOR FURTHER INFORMATION CONTACT: Emily Moghaddas, Interdisciplinary Team Leader, Mt. Hough Ranger District, telephone (530) 283-7652.

SUPPLEMENTARY INFORMATION:

Tentative or Preliminary Issues and Possible Alternatives

Alternatives being considered at this time include: (A) the Proposed Action and (B) No Action.

The proposed action is designed to meet the standards and guidelines for land management activities in the Plumas National Forest Land and Resource Management Plan (1988) (LRMP) as amended by the Record of Decision for the Herger-Feinstein Quincy Library Group Forest Recovery Act (1999) (HFQLG), and as amended by the Record of Decision for the Sierra Nevada Forest Plan Amendment (2004).

The proposed action is located in Plumas County, California, within the Mt. Hough Ranger District of the Plumas National Forest in all or portions of Sections 1 and 2 T26N R11E; Sections 2-6, 8-11, 14-23, 26-29, 32, and 33 T26N R12E. Sections 1, 2, 10-14, 24, and 25 T27N R10E; Sections 2-28, 30, 35, 36 T27N R11E; Sections 1-12, 14-17, 19-21, 26-35 T27N R12E; Section 6 T27N R13E; Sections 13, 14, 23, 24, 25, 26, 35, 36 T28N R10E; Sections 1-5, 7-20, 23-26, 29-36 T28N R11E; Sections 5-9, 14-36 T28N R12E; and Section 31 T28N R13E MDM. Section 1, T23N, R9E; Section 6, T23N, R10E; Sections 4 & 8, T23N, R11E; Sections 1-6, 8-12, 13-16, 22-26, 31, and 32, T24N, R10E; Sections 5-8, 15, 17, 21-28, and 33-35, T24N, R11E; Sections 1, 10-12, 13, 14, 21-28, 33-34, and 26, T25N, R9E; Sections 6-8 and 14-35, T25N, R10E; and Sections 19, 29, 30, 31, and 32, T25N, R11E, MDM.

Purpose and Need for Action

The purpose and need for this proposal is to shift the existing conditions toward the desired conditions. In the context of an integrated management approach there are several primary needs for this proposal. They include:

(1) Modifying fire behavior to protect communities, fire fighters, and biological resources; (2) Modifying forest structure and species composition to promote the development of an uneven-aged, multistoried, fire resilient forest; (3) Restoring aquatic and riparian habitat and improve watershed conditions; (4) Contributing to the economic stability of rural communities; (5) Controlling spread and introduction of noxious weeds; and (6) Providing access to integrated resource treatments and improving the road system.

Proposed Action

The project area for the proposed action is about 100,000 acres. The proposal is composed of eight actions: (1) Reduce hazardous fuels; (2) implement group selection timber harvest; (3) implement thinning timber harvest and biomass removal; (4) improve transportation system; (5) improve riparian and watershed conditions, (6) thin conifers trees to release aspen stands; (7) thin conifers and reduce fuels in Baker cypress habitat, and (8) remove and abate noxious weeds. Fuel treatments would consist of construction of about 5,700 acres of defensible fuel profile zones and prescribed burning on about 900 acres, totalling about 6, 600 acres. Group selection timber harvest as part of the HFQLG pilot project would be conducted on about 1,200 acres. Thinning and biomass removal are proposed on about 4,255 acres. Also, thinning is proposed in plantations (about 800 acres) riparian habitat conservation areas (about 1,256 acres), aspen stands (about 820 acres), Baker cypress stands (about 140 acres). Six areas of stream channel restoration is proposed. And about two miles of new system roads would be constructed; ten miles of temporary roads would be constructed and decommissioned after use; twelve miles of existing roads would be permanently decommissioned; 107 miles of reconstruction fo existing roads, and seven culverts would be replaced or installed for fish passage. About 400 locations of Canada thistle (Cirsium avense) would be treated with either clopyralid or glyphopsate on about 120 acres. the remaining 2 acres of noxious weed locations would be treated with mechanical, hand, or burning methods.

Lead Agency

The USDA Forest Service is the lead agency for this proposal.

Responsible Official

Plumas National Forest Supervisor James M. Peña is the responsible official. Plumas National Forest, P.O. Box 11500, Quincy, CA 95971.

Nature of Decision To Be Made

Forest Supervisor James M. Peña will decide whether to implement the Diamond Project as proposed and described above, implement the project based on an alternative to this proposal that is formulated to resolve identified conflicts, or not implement this project at this time.

Scoping Process

Public questions and comments regarding this proposal are an integral part of this environmental analysis process. Comments will be used to identify issues and develop alternatives to the proposed action. To assist the Forest Service in identifying and considering issues and concerns on the proposed action, comments should be as specific as possible.

A copy of the Proposed Action will be mailed to adjacent landowners, as well as those people and organizations that have indicated a specific interest in the Diamond project, interested individuals who attended the open house held prior to the development of a landscape assessment for the watersheds encompassing the project, to Native American Tribes, Federal, State, and local agencies. The public will be notified of any meetings regarding this proposal by mailings and press releases sent to the local newspaper and media.

Permits or Licenses Required

An Air Pollution Permit and a Smoke Management Plan are required by local agencies.

Comment

This notice of intent initiates the scoping process which guides the development of the environmental impact statement under NEPA, which will guide development of the EIS. Our desire is to receive substantive comments on the merits of the Proposed Action, as well as comments that address errors, misinformation, or information that has been omitted. Substantive comments are defined as comments within the scope of the proposal, that have a direct relationship to the proposal, and that include supporting reasons for the Responsible Official's consideration.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposal action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: November 3, 2005.
James M. Peña,
Forest Supervisor.

[FR Doc. 05-22435 Filed 11-9-05; 8:45am]

BILLING CODE 3410-11-M